DEPARTMENT OF COMMERCE

International Trade Administration

[A-570-983]

Drawn Stainless Steel Sinks From the People's Republic of China: Final Results of Antidumping Duty Administrative Review; 2021-2022

AGENCY: Enforcement and Compliance, International Trade Administration, Department of Commerce.

SUMMARY: The U.S. Department of Commerce (Commerce) determines that Guangdong Dongyuan Kitchenware Industrial Co., Ltd. (Dongyuan) made sales of subject merchandise at prices below normal value during the period of review (POR) April 1, 2021, through March 31, 2022. Additionally, we find that Guangdong Yingao Kitchen Utensils Co., Ltd. (Yingao) and Shenzhen Kehuaxing Industrial Ltd. (Shenzhen Kehuaxing) have not established their eligibility for a separate rate.

DATES: Applicable November 6, 2023.

FOR FURTHER INFORMATION CONTACT: Ajay Menon, AD/CVD Operations, Office IX, Enforcement and Compliance, International Trade Administration, U.S. Department of Commerce, 1401 Constitution Avenue NW, Washington, DC 20230; telephone: (202) 482-0208.

SUPPLEMENTARY INFORMATION:

Background

On May 4, 2023, Commerce published the Preliminary Results.¹ On July 19, 2023, we extended the deadline for these final results to October 31, 2023.² For a complete description of the events that occurred subsequent to the Preliminary Results, see the Issues and Decision Memorandum.³ Commerce conducted this review in accordance with section 751(a) of the Tariff Act of 1930, as amended (the Act).

¹ See Drawn Stainless Steel Sinks from the People's Republic of China: Preliminary Results and Partial Rescission of Antidumping Duty Administrative Review; 2021-2022, 88 FR 28485 (May 4, 2023) (Preliminary Results), and accompanying Preliminary Decision Memorandum.

² See Memorandum, “Extension of Deadline for Final Results,” dated July 19, 2023.

³ See Memorandum, “Issues and Decision Memorandum for the Final Results of the 2021-2022 Antidumping Duty Administrative Review of Drawn Stainless Steel Sinks from the People's Republic of China,” dated concurrently with, and hereby adopted by, this notice (Issues and Decision Memorandum).

Scope of the Order ⁴

⁴ See Drawn Stainless Steel Sinks from the People's Republic of China: Amended Final Determination of Sales at Less Than Fair Value and Antidumping Duty Order, 78 FR 21592 (April 11, 2013) (Order).

The products covered by the Order are drawn stainless steel sinks from the People's Republic of China (China).⁵ Imports of subject merchandise are currently classified under the Harmonized Tariff Schedule of the United States (HTSUS) subheadings 7324.10.0000 and 7324.10.0010. While HTSUS subheadings are provided for convenience and customs purposes, the written description of the scope of the order is dispositive.

⁵ For a complete description of the scope of the Order, see Issues and Decision Memorandum.

Analysis of Comments Received

We addressed all the issues raised in the case and rebuttal briefs in the Issues and Decision Memorandum. A list of the issues that parties raised is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

Based on a review of the record and comments received from interested parties regarding the Preliminary Results, we have made certain changes to the margin calculations for Dongyuan.⁶

⁶ For a full description of these changes, see Issues and Decision Memorandum.

Final Results of Review

As a result of this review, we are assigning the following estimated weighted-average dumping margins for the period April 1, 2021, through March 31, 2022:

Producer or exporter | Weighted- average dumping margin (percent)
Guangdong Dongyuan Kitchenware Industrial Co., Ltd | 5.85
Guangdong Yingao Kitchen Utensils Co., Ltd | 76.45

Disclosure

Commerce intends to disclose the calculations performed in connection with these final results to interested parties within five days of the date of publication of this notice in the Federal Register, in accordance with 19 CFR 351.224(b).

Assessment Rates

Pursuant to section 751(a)(2)(C) of the Act and 19 CFR 351.212(b), Commerce determined, and U.S. Customs and Border Protection (CBP) shall assess, antidumping duties on all appropriate entries of subject merchandise in accordance with the final results of this review.

For Dongyuan, Commerce calculated importer- (or customer-) specific per-unit duty assessment rates based on the ratio of the total amount of dumping calculated for the importer's (or customer's) examined sales to the total sales quantity associated with those sales, in accordance with 19 CFR 351.212(b)(1). Where either Dongyuan's weighted-average dumping margin is zero or de minimis, or an importer-specific rate is zero or de minimis within the meaning of 19 CFR 351.106(c)(1), we will instruct CBP to liquidate the appropriate entries without regard to antidumping duties.

Pursuant to Commerce's assessment practice,⁷ for entries that were not reported in the U.S. sales data submitted by Dongyuan, we will instruct CBP to liquidate such entries at the China-wide rate of 76.45 percent.⁸ Furthermore, because we find that Shenzhen Kehuaxing and Yingao are part of the China-wide entity, we will also instruct CBP to apply an ad valorem assessment rate of 76.45 to all POR entries of subject merchandise that were produced and/or exported by either Shenzhen Kehuaxing or Yingao.

⁷ See Non-Market Economy Antidumping Proceedings: Assessment of Antidumping Duties, 76 FR 65694 (October 24, 2011), for a full discussion of this practice.

⁸ The China-wide rate determined in the investigation was 76.53 percent. See Order, 78 FR at 21594. This rate was adjusted for export subsidies and estimated domestic subsidy pass through to determine the cash deposit rate (i.e., 76.45 percent) collected for companies in the China-wide entity. See explanation in Drawn Stainless Steel Sinks from the People's Republic of China: Investigation Final Determination, 78 FR 13019 (February 26, 2013).

Commerce intends to issue assessment instructions to CBP no earlier than 35 days after the date of publication of these final results. If a timely summons is filed at the U.S. Court of International Trade, the assessment instructions will direct CBP not to liquidate relevant entries until the time for parties to file a request for a statutory injunction has expired (i.e., within 90 days of publication).

Cash Deposit Requirements

The following cash deposit requirements will be effective upon publication of the final results of administrative review for all shipments of subject merchandise entered, or withdrawn from warehouse, for consumption on, or after, the publication date of the final results of review, as provided for by section 751(a)(2)(C) of the Act: (1) the cash deposit rate for Dongyuan will be equal to the dumping margin established in the final results of this review; (2) for a previously investigated or reviewed exporter of subject merchandise not listed in the final results of review that has a separate rate, the cash deposit rate will continue to be the exporter's existing cash deposit rate; (3) for all Chinese exporters of subject merchandise that do not have a separate rate, the cash deposit rate will be the cash deposit rate established for the China-wide entity, i.e., 76.45 percent; ⁹ and (4) for all exporters of subject merchandise that are not located in China and that are not eligible for a separate rate, the cash deposit rate will be the rate applicable to the China exporter(s) that supplied that non-Chinese exporter. These deposit requirements, when imposed, shall remain in effect until further notice.

⁹ Id.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification Regarding Administrative Protective Order

This notice also serves as the final reminder to parties subject to administrative protective order (APO) of their responsibility concerning the disposition of proprietary information disclosed under APO in accordance with 19 CFR 351.305(a)(3). Timely written notification of return/destruction of APO materials or conversion to judicial protective order is hereby requested. Failure to comply with the regulations and terms of an APO is a sanctionable violation.

Notification to Interested Parties

We are issuing and publishing these final results of administrative review and notice in accordance with sections 751(a)(1) and 777(i) of the Act, and 19 CFR 351.221(b)(5).

Dated: October 31, 2023.
Lisa W. Wang,
Assistant Secretary for Enforcement and Compliance.

Appendix

List of Topics Discussed in the Issues and Decision Memorandum

I. Summary

II. Background

III. Margin Calculations

IV. Discussion of the Issues

Comment 1: Whether Commerce Should Select Romania as the Primary Surrogate Country

Comment 2: Whether Commerce Should Value Stainless Steel Using Romanian Surrogate Value Data

Comment 3: Surrogate Value Source to Value Clips

Comment 4: Whether Commerce Should Exclude Taiwan Import Data from its Calculation of the Surrogate Value for Stainless Steel

Comment 5: Whether Commerce Will Consider Supplemental Surrogate Value Data for Labor

Comment 6: Whether Commerce Should Apply Adverse Facts Available to Yingao

Comment 7: Whether Commerce Should Grant Dongyuan a Double Remedies Offset in its Margin Calculation

Comment 8: Verification Issues Related to Dongyuan's Reported Product Codes

Comment 9: Whether to Include Dongyuan's Bank Charges Noted at Verification

Comment 10: Whether Commerce Should Grant a Scrap Offset to Dongyuan

V. Recommendation

[FR Doc. 2023-24478 Filed 11-3-23; 8:45 am]

BILLING CODE 3510-DS-P